DEPARTMENT OF COMMERCE

National Oceanic and Atmospheric Administration

ENVIRONMENTAL PROTECTION AGENCY

Coastal Nonpoint Pollution Control Program: Proposed Finding for Alabama Approval Conditions

AGENCY: National Oceanic and Atmospheric Administration, U.S. Department of Commerce, and U.S. Environmental Protection Agency.

ACTION: Notice of proposed finding; request for comments.

SUMMARY: The National Oceanic and Atmospheric Administration (NOAA) and the U.S. Environmental Protection Agency (EPA) (the Federal agencies) invite public comment on the Federal agencies' proposed finding that Alabama has satisfied each of the conditions the agencies included as part of their 1998 approval of Alabama's coastal nonpoint pollution control program (coastal nonpoint program). The Coastal Zone Act Reauthorization Amendments (CZARA) directs States and territories with coastal zone management programs previously approved under section 306 of the Coastal Zone Management Act to develop and implement coastal nonpoint programs, which must be submitted to the Federal agencies for approval. Prior to making such a finding, NOAA and the EPA invite public input on the two agencies' rationale for this proposed finding.

DATES: Comments are due by June 14, 2024.

ADDRESSES: Copies of the proposed findings document may be found on www.regulations.gov (search for NOAA-NOS-2023-00107) and NOAA's Coastal Nonpoint Pollution Control Program website at coast.noaa.gov/czm/pollutioncontrol/. Comments may be submitted by:

• Electronic Submission: Submit all electronic public comments via the Federal eRulemaking Portal. Go to www.regulations.gov and Enter NOAA-NOS-2023- 00107 in the Search box, then click the “Comment” icon, complete the required fields, and enter or attach your comments.

• Mail: Submit written comments to Joelle Gore, Chief, Stewardship Division (N/OCM6), Office for Coastal Management, NOS, NOAA, 1305 East-West Highway, Silver Spring, Maryland, 20910; phone 202-468-7270; ATTN: Alabama Coastal Nonpoint Program.

Instructions: All comments received are a part of the public record and will generally be posted for public viewing on www.regulations.gov without change. All personally identifiable information (for example, name, address, etc.), confidential business information, or otherwise sensitive information submitted voluntarily by the commenter will be publicly accessible. The Federal agencies will accept anonymous comments (enter “N/A” in the required fields you wish to remain anonymous). Multimedia submissions (audio, video, etc.) must be accompanied by a written comment. The written comment is considered the official comment and should include discussion of all points you wish to make. The Federal agencies will generally not consider comments or comment contents located outside of the primary submission (i.e., on the web, cloud, or other file sharing system).

FOR FURTHER INFORMATION CONTACT: Allison Castellan, Office for Coastal Management, NOS, NOAA, 202-596-5039, allison.castellan@noaa.gov; or Duane Robertson, U.S. EPA Region 4, Water Division, 404-562-9398, robertson.duane@epa.gov.

SUPPLEMENTARY INFORMATION: Section 6217(a) of the Coastal Zone Act Reauthorization Amendments (CZARA), 12 U.S.C. 1455b(a), required that each State or territory with a coastal zone management program previously approved under section 306 of the Coastal Zone Management Act prepare and submit to the Federal agencies a coastal nonpoint pollution control program for approval by July 1995. The Federal agencies provided public notice of and invited public comment on their proposal to approve the Alabama program subject to specified conditions. (62 FR 6216). The Federal agencies approved the program subject to those conditions on June 30, 1998 (63 FR 37094). The Federal agencies now propose to find, and invite public comment on the proposed findings, that Alabama has satisfied the conditions associated with the earlier approval of its coastal nonpoint program.

The proposed findings document for Alabama's program is available at www.regulations.gov (search for NOAA-NOS-2023-00107) and information on the Coastal Nonpoint Program in general is available on the NOAA website at coast.noaa.gov/czm/pollutioncontrol/.

Bruno Pigott,
Acting Assistant Administrator Office of Water, Environmental Protection Agency.
Nicole R. LeBoeuf
Assistant Administrator for Ocean Services and Coastal Zone Management, National Ocean Service, National Oceanic and Atmospheric Administration.

[FR Doc. 2024-10131 Filed 5-14-24; 8:45 am]

BILLING CODE 3510-08-P